GENERAL SERVICES ADMINISTRATION

[Notice-Q-2023-04; Docket No. 2023-0002; Sequence No. 33]

Federal Secure Cloud Advisory Committee; Notification of Upcoming Meeting

AGENCY: Federal Acquisition Service (Q), General Services Administration (GSA).

ACTION: Meeting notice.

SUMMARY: As stipulated by the Federal Advisory Committee Act (FACA), GSA is hereby giving notice of a series of four (4) open public meetings of the Federal Secure Cloud Advisory Committee (FSCAC). Information on attending and providing public comment is under the SUPPLEMENTARY INFORMATION section.

DATES: The open public meetings will be held on Thursday, October 19, 2023, from 1:00 p.m. to 3:00 p.m., Eastern Daylight Time (EDT); Thursday, October 26, 2023, from 1:00 p.m. to 3:00 p.m., EDT; Thursday, November 2, 2023, from 1:00 p.m. to 3:00 p.m., EDT; and Thursday, November 9, 2023, from 1:00 p.m. to 3:00 p.m., EST. The agendas for the meetings will be made available prior to the October 19, 2023 meeting online at https://gsa.gov/fscac.

ADDRESSES: The meetings will be accessible via webcast. Registrants will receive the webcast information before the meeting.

FOR FURTHER INFORMATION CONTACT: Michelle White, Designated Federal Officer (DFO), FSCAC, GSA, 703-489-4160, fscac@gsa.gov. Additional information about the Committee, including meeting materials and agendas, will be available online at https://gsa.gov/fscac.

SUPPLEMENTARY INFORMATION:

Background

GSA, in compliance with the FedRAMP Authorization Act of 2022, established the FSCAC, a statutory advisory committee in accordance with the provisions of FACA (5 U.S.C. 10). The Federal Risk and Authorization Management Program (FedRAMP) within GSA is responsible for providing a standardized, reusable approach to security assessment and authorization for cloud computing products and services that process unclassified information used by agencies.

The FSCAC will provide advice and recommendations to the Administrator of GSA, the FedRAMP Board, and agencies on technical, financial, programmatic, and operational matters regarding the secure adoption of cloud computing products and services. The FSCAC will ensure effective and ongoing coordination of agency adoption, use, authorization, monitoring, acquisition, and security of cloud computing products and services to enable agency mission and administrative priorities. The purposes of the Committee are:

• To examine the operations of FedRAMP and determine ways that authorization processes can continuously be improved, including the following:

○ Measures to increase agency reuse of FedRAMP authorizations.

○ Proposed actions that can be adopted to reduce the burden, confusion, and cost associated with FedRAMP authorizations for cloud service providers.

○ Measures to increase the number of FedRAMP authorizations for cloud computing products and services offered by small businesses concerns (as defined by section 3(a) of the Small Business Act (15 U.S.C. 632(a)).

○ Proposed actions that can be adopted to reduce the burden and cost of FedRAMP authorizations for agencies.

• Collect information and feedback on agency compliance with, and implementation of, FedRAMP requirements.

• Serve as a forum that facilitates communication and collaboration among the FedRAMP stakeholder community.

The FSCAC will meet no fewer than three (3) times a calendar year. Meetings shall occur as frequently as needed, called, and approved by the DFO.

Purpose of the Meetings and Agendas

The October 19, 2023 public meeting will be dedicated to presenting the Committee with additional information on the Cloud Solution Provider (CSP) Authorization Path through an in-depth presentation and facilitated discussions to develop draft recommendations.

The October 26, 2023 public meeting will be dedicated to presenting the Committee with additional information on the Continuous Monitoring (ConMon) process through an in-depth presentation and facilitated discussions to develop draft recommendations.

The November 2, 2023 public meeting will be dedicated to presenting the Committee with additional information on FedRAMP's automation initiatives and opportunities through an in-depth presentation and facilitated discussions to develop draft recommendations.

The November 9, 2023 public meeting will be structured as a working session for the Committee to finalize their deliverable to the GSA Administrator with the Committee's recommendations for each priority initiative.

The meeting agendas will be posted on https://gsa.gov/fscac prior to the October 19, 2023 meeting.

Meeting Attendance

This meeting is open to the public and can be attended virtually. Meeting registration and information is available at https://gsa.gov/fscac. Registration for attending the meeting is highly encouraged by 5:00 p.m. on Monday, October 16, 2023 to obtain the virtual meeting information for the meeting on October 19, 2023. Registration for attending the meeting is highly encouraged by 5:00 p.m. on Monday, October 23, 2023 to obtain the virtual meeting information for the meeting on October 26, 2023. Registration for attending the meeting is highly encouraged by 5:00 p.m. on Monday, October 30, 2023 to obtain the virtual meeting information for the meeting on November 2, 2023. Registration for attending the meeting is highly encouraged by 5:00 p.m. on Monday, November 6, 2023 to obtain the virtual meeting information for the meeting on November 9, 2023. After registration, individuals will receive meeting attendance information via email.

For information on services for individuals with disabilities, or to request accommodation for a disability, please email the FSCAC staff at FSCAC@gsa.gov at least 10 days prior to each meeting. Live captioning may be provided virtually.

Public Comment

Members of the public will have the opportunity to provide oral public comment during the FSCAC meetings by indicating their preference when registering. Written public comments can be submitted at any time by completing the public comment form on our website, https://gsa.gov/fscac. All written public comments will be provided to FSCAC members in advance of the meeting if received by Wednesday, October 11, 2023, for the Thursday, October 19, 2023 meeting; by Wednesday, October 18, 2023, for the Thursday, October 26, 2023 meeting; by Wednesday, October 25, 2023, for the Thursday, November 2, 2023 meeting; and by Wednesday, November 1, 2023, for the Thursday, November 9, 2023 meeting, respectively.

Elizabeth Blake,
Senior Advisor, Federal Acquisition Service, General Services Administration.

[FR Doc. 2023-20661 Filed 9-22-23; 8:45 am]

BILLING CODE 6820-34-P